DEPARTMENT OF COMMERCE

International Trade Administration

[A-489-501]

Certain Welded Carbon Steel Pipe and Tube from Turkey: Extension of Time Limit for Preliminary Results of Antidumping Duty Administrative Review

AGENCY: Import Administration, International Trade Administration, Department of Commerce.

FOR FURTHER INFORMATION CONTACT: Joy Zhang, or Christopher Hargett, AD/CVD Operations, Office 3, Import Administration, International Trade Administration, U.S. Department of Commerce, Room 4014, 14th Street and Constitution Ave., NW, Washington, DC 20230, telephone: (202) 482-1168 or (202) 482-4161, respectively.

SUPPLEMENTARY INFORMATION:

Background

On June 24, 2009, the U.S. Department of Commerce (“the Department”) published a notice of initiation of the administrative review of the antidumping duty order on certain welded carbon steel pipe and tube from Turkey covering the period May 1, 2008, through April 30, 2009. See Initiation of Antidumping and Countervailing Duty Administrative Reviews and Request for Revocation in Part, 74 FR 30052 (June 24, 2009). The preliminary results are currently due no later than January 31, 2010.

Extension of Time Limit for Preliminary Results

Section 751(a)(3)(A) of the Tariff Act of 1930, as amended (“the Act”), requires the Department to make a preliminary determination within 245 days after the last day of the anniversary month of an order for which a review is requested. Section 751(a)(3)(A) of the Act further states that if it is not practicable to complete the review within the time period specified, the administering authority may extend the 245-day period to issue its preliminary results to up to 120 days.

We determine that completion of the preliminary results of this review within the 245-day period is not practicable for the following reason. The respondent claimed that during the period of review, there were significant changes in the total cost of manufacturing due to significant changes in the cost of the primary raw material, hot-rolled sheet. This requires the Department to gather and analyze a significant amount of information pertaining to the company's sales practices and manufacturing costs. Given the complexity of this issue, and in accordance with section 751(a)(3)(A) of the Act, we are extending the time period for issuing the preliminary results of the review by 120 days. The preliminary results are now due no later than May 31, 2010. The final results continue to be due 120 days after publication of the preliminary results.

This notice is issued and published in accordance with section 751(a)(3)(A) of the Act.

Dated: January 19, 2010.
John M. Andersen,
Acting Deputy Assistant Secretary for Antidumping and Countervailing Duty Operations.

[FR Doc. 2010-1343 Filed 1-22-10; 8:45 am]

BILLING CODE 3510-DS-S